ENVIRONMENTAL PROTECTION AGENCY

[MN85; FRL-7830-3]

Notice of Issuance of Part 71 Federal Operating Permit to Great Lakes Gas Transmission L.P.

AGENCY: Environmental Protection Agency.

ACTION: Notice.

SUMMARY: This notice announces that, pursuant to title V of the Clean Air Act and to 40 CFR part 71, on September 28, 2004, the Environmental Protection Agency (EPA), Region 5 issued a title V Permit to Operate (title V permit), to Great Lakes Gas Transmission L.P. (Great Lakes). This permit authorizes the company to operate Compressor Station No. 4 (CS #4), one of five Great Lakes compressor stations located in Minnesota. The compressor station is composed of two natural gas-fired turbines and one natural gas-fired generator, which the source uses to add pressure along a natural gas pipeline. The turbines are located in Deer River, Minnesota on the Leech Lake Band of Ojibwe Indian Reservation.

DATES: The title V Permit will become effective on October 28, 2004. EPA has provided the required public comment period for the permit in accordance with 40 CFR 71.11, and has issued it as final.

ADDRESSES: The final signed permits are available for public inspection online at http://www.epa.gov/region5/air/permits/epermits.htm or during normal business hours at the following address: EPA, Region 5, 77 West Jackson Boulevard (AR-18J), Chicago, Illinois 60604.

FOR FURTHER INFORMATION CONTACT: Ethan Chatfield, EPA, Region 5, 77 W. Jackson Boulevard (AR-18J), Chicago, Illinois 60604, (312) 886-5112, or chatfield.ethan@epa.gov.

SUPPLEMENTARY INFORMATION: This supplemental information is organized as follows:

A. What Is the Background Information?

B. What Action Is EPA Taking?

A. What Is the Background Information?

Great Lakes operates nearly 2,000 miles of large diameter underground pipeline, which transports natural gas for delivery to customers in the midwestern and northeastern United States and eastern Canada. The pipeline's 14 compressor stations, located approximately 75 miles apart, operate to keep natural gas moving through the system. Compressors operated at these stations add pressure to natural gas in the pipeline, causing it to flow to the next compressor station. The pipeline normally operates continuously, but at varying load, 24 hours per day and 365 days per year.

CS #4 is located approximately 3 miles west of the City of Deer River on the Leech Lake Band of Ojibwe Indian Reservation in Itasca County, Minnesota. The station consists of two stationary natural gas-fired turbines (EU-001, EU-002), which drive two natural gas compressors, and one natural gas-fired standby electrical generator (EU-003), which provides electrical power for critical operations during temporary electrical power outages and during peak loading.

Since Great Lakes CS #4 is a major stationary source, is subject to section 111 of the Clean Air Act, and is located in Indian Country, it is subject to the permitting requirements of Part 71 (40 CFR 71.3(a), 71.4(b)). On September 28, 2004, EPA issued a federal title V Permit (No. V-LL-R50002-04-01) incorporating all applicable air quality requirements, including monitoring sufficient to yield reliable data on the source's compliance with the permit. In accordance with the requirements of 40 CFR 71.11(d), EPA provided the public with the required 30 days to comment on the draft permit. EPA received comments from the Leech Lake and Mille Lacs Band of Ojibwe. EPA has attached to the Statement of Basis a Response to Comments document summarizing the comments and providing a brief explanation as to why changes were or were not made, and has placed it online at http://www.epa.gov/region5/air/permits/const/r5permits.htm.

EPA is not aware of any outstanding enforcement actions against Great Lakes and believes issuance of this permit is non-controversial.

B. What Action Is EPA Taking?

EPA is notifying the public of the issuance of the title V permit to Great Lakes Gas Transmission L.P.

Dated: October 14, 2004.
Gary Gulezian,
Acting Regional Administrator, Region 5.

[FR Doc. 04-23943 Filed 10-25-04; 8:45 am]

BILLING CODE 6560-50-P